DEPARTMENT OF THE INTERIOR

Office of the Secretary

[DOI-2023-0004; 23XD4523WS, DS62200000, DWSN00000.000000, DP62205]

Privacy Act of 1974; System of Records

AGENCY: Office of the Secretary, Interior.

ACTION: Rescindment of a system of records notice.

SUMMARY: The Department of the Interior (Interior, Department) is issuing a public notice of its intent to rescind the Privacy Act system of records notice (SORN) for INTERIOR/DOI-88, Travel Management: FBMS, because agency travel program records are covered by two government-wide SORNs published by the General Services Administration (GSA). This rescindment will promote the overall streamlining and management of Interior's Privacy Act systems of records.

DATES: These changes take effect on May 4, 2023.

ADDRESSES: You may send comments identified by docket number [DOI-2023-0004] by any of the following methods:

• Federal eRulemaking Portal: https://www.regulations.gov. Follow the instructions for sending comments.

• Email: DOI_Privacy@ios.doi.gov. Include docket number [DOI-2023-0004] in the subject line of the message.

• U.S. mail or hand-delivery: Teri Barnett, Departmental Privacy Officer, U.S. Department of the Interior, 1849 C Street NW, Room 7112, Washington, DC 20240.

Instructions: All submissions received must include the agency name and docket number [DOI-2023-0004]. All comments received will be posted without change to https://www.regulations.gov, including any personal information provided.

Docket: For access to the docket to read background documents or comments received, go to https://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: Teri Barnett, Departmental Privacy Officer, U.S. Department of the Interior, 1849 C Street NW, Room 7112, Washington, DC 20240, DOI_Privacy@ios.doi.gov or (202) 208-1605.

SUPPLEMENTARY INFORMATION: Pursuant to the provisions of the Privacy Act of 1974, as amended, 5 U.S.C. 552a, Interior is rescinding the INTERIOR/DOI-88, Travel Management: FBMS, SORN and removing it from its inventory. During a routine review, the Department determined that agency travel program records are covered under two government-wide SORNs issued by the GSA: GSA/GOVT-3, Travel Charge Card Program, 78 FR 20108 (April 3, 2013); and GSA/GOVT-4, Contracted Travel Services Program, 74 FR 26700 (June 3, 2009), modification published June 12, 2009 (74 FR 28048). A government-wide system of records is a system of records where one agency has regulatory authority over the records in the custody of multiple agencies and that agency has the responsibility for publishing a SORN that applies to all of the records regardless of their custodial location. The two GSA government-wide SORNs cover all federal travel service programs and apply to the travel records maintained by the Department pursuant to federal travel regulations. Therefore, Interior will manage its travel program records under the GSA government-wide notices and is rescinding the INTERIOR/DOI-88, Travel Management: FBMS, SORN to avoid duplication of the existing government-wide SORNs in accordance with the Office of Management and Budget Circular A-108, Federal Agency Responsibilities for Review, Reporting, and Publication under the Privacy Act.

Rescinding the INTERIOR/DOI-88, Travel Management: FBMS, SORN will have no adverse impacts on individuals as the records are covered under the GSA/GOVT-3, Travel Charge Card Program, and GSA/GOVT-4, Contracted Travel Services Program, SORNs. This rescindment will also promote the overall streamlining and management of Interior's Privacy Act systems of records.

SYSTEM NAME AND NUMBER:

Interior, DOI-88, Travel Management: FBMS.

HISTORY:

73 FR 43769 (July 28, 2008), modification published 86 FR 50156 (September 7, 2021).

Teri Barnett,
Departmental Privacy Officer, Department of the Interior.

[FR Doc. 2023-09499 Filed 5-3-23; 8:45 am]

BILLING CODE 4334-63-P